DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received May 10, 2004.

Title and OMB Number: Defense Reutilization & Marketing Service Customer.

Type of Request: Reinstatement.

Number of Respondents: 400.

Responses per Respondent: 1.

Annual Responses: 400.

Average Burden per Response: 15 minutes.

Annual Burden Hours: 100.

Needs and Uses: The information collection requirement is necessary to obtain customer rating and comments on the service of a Defense Reutilization and Marketing store. Respondents are customers who obtain, or visit a store to obtain, surplus or excess property. The customer comment care is a means for customers to rate and comment on DRMS Facilities, Receipt/Store/Issue services, Reutilization/Transfer/Donation services, Demil services, Environmental services, Usable property sales, and scrap sales. The completed card is an agent for service improvement and determining whether there is a systemic problem.

Affected Public: Individuals or households; business or other for-profit; not-for-profit institutions; State, local or tribal government.

Frequency: On occasion.

Respondent's Obligation: Voluntary.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Mr. Robert Cushing. Written requests for copies of the information collection proposal should be sent to Mr. Cushing, WHS/ESCD/Information Managenment Division, 1225 Jefferson Davis Highway, Suite 504, Arlington, VA 22202-4326.

Dated: April 5, 2004.
L.M. Bynum,
Alternate OSD Federal Register, Liaison Officer, Department of Defense.

[FR Doc. 04-8030 Filed 4-8-04; 8:45 am]

BILLING CODE 5001-06-M